NATIONAL AERONAUTICS AND SPACE ADMINISTRATION

[Notice: 02-144]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)). The information obtained in this collection will assist NASA in assessing the effectiveness of aviation safety programs.

DATES: All comments should be submitted on or before December 27, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Title: National Aviation Operations Monitoring Service: General Aviation Pilots.

OMB Number: 2700-0102.

Type of review: Extension.

Need and Uses: The information collected will be analyzed and used by NASA Aviation Safety Program managers to evaluate their progress in improving aviation over the next decade.

Affected Public: Individuals or households.

Number of Respondents: 10,000.

Responses Per Respondent: 1.

Annual Responses: 10,000.

Hours Per Request: Approx. ½ hour.

Annual Burden Hours: 6,280.

Frequency of Report: Quarterly; Annually.

Patricia Dunnington,
Deputy Chief Information Officer, Office of the Administrator.

[FR Doc. 02-30135 Filed 11-26-02; 8:45 am]

BILLING CODE 7510-01-P